DEPARTMENT OF COMMERCE

Office of the Secretary

Agency Information Collection Activities; Submission to the Office of Management and Budget (OMB) for Review and Approval; Comment Request; Generic Clearance Program Performance Progress Reports

AGENCY: Office of the Secretary, Department of Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 16, 2026.

ADDRESSES: Interested persons are invited to submit written comments by mail to the Departmental PRA Compliance Officer, Office of the Under Secretary for Economic Affairs, at PRAcomments@doc.gov. Do not submit Confidential Business Information or otherwise sensitive or protected information.

FOR FURTHER INFORMATION CONTACT: Requests for additional information or specific questions related to collection activities should be directed to the Departmental PRA Compliance Officer, Office of the Under Secretary for Economic Affairs, at 1401 Constitution Avenue NW, Washington, DC 20230 or PRAcomments@doc.gov.

SUPPLEMENTARY INFORMATION:

I. Abstract

This is a request for a new generic clearance to collect performance and progress data from recipients and sub-recipients who receive funding from DOC under a discretionary grant or cooperative agreement. This information is required to monitor and report program performance.

DOC provides grants that promote the economic and social well-being of individuals and communities with partnerships, funding, guidance, training, and technical assistance. Currently, most program offices are using the standard grant forms (SF) for progress reporting, which require grantees to only respond to a common set of questions that often solicits incomplete information. This one-size-fits-all approach does not adequately collect the specific data needed for particular grant programs or allow program offices to assess continuous quality improvement. Different grant programs vary in purpose, target population, and activities. Thus, a need for program offices to customize performance measurements has been identified.

Therefore, this generic Program Specific Performance Progress Report collection is being proposed.

II. Method of Collection

Some program offices may use some form of electronic collection. This could include web pages, email or other online data management systems. Recipients may be required to enter and retrieve information pertinent to their awards through electronic forms closely resembling the paper forms (i.e., fillable PDFs or tailored online data management systems). Such technology support is expected to improve standardization and timeliness of recipient reporting and to ease further analyses of reported data.

III. Data

OMB Control Number: 0690-0038.

Form Number(s): Varies or None.

Type of Review: Regular submission, an extension of a currently approved collection.

Affected Public: Individuals or Households; Private Sector; Not-for-profit institutions; State, Local, or Tribal government.

Estimated Number of Respondents: 51,000.

Estimated Time per Response: Varies.

Estimated Total Annual Burden Hours: 10,775.

Respondent's Obligation: Voluntary or Mandatory.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-00733 Filed 1-14-26; 8:45 am]

BILLING CODE 3510-17-P